NATIONAL TRANSPORTATION SAFETY BOARD

Investigative Hearing

Two recent Amtrak (National Railroad Passenger Corporation) accidents have motivated this investigative hearing: First, an Amtrak overspeed derailment in a 30 mph curve that occurred in DuPont, Washington, and, second, an Amtrak head-on collision with a standing freight train in Cayce, South Carolina.

The first accident occurred on December 18, 2017, at 7:33 a.m., Pacific standard time, and involved southbound Amtrak passenger train 501, consisting of a leading and trailing locomotive, a power car, 10 passenger railcars, and a luggage car. Train 501 was traveling at 78 mph when it derailed from a highway overpass near DuPont, Washington. The train was on its first regular passenger service trip on a single main track (Lakewood subdivision) at milepost (MP) 19.86. The lead locomotive, the power car, and two passenger railcars derailed onto Interstate 5. Fourteen highway vehicles came into contact with the derailed equipment. At the time of the accident, 77 passengers, 5 Amtrak employees, and a Talgo Incorporated technician were on the train.¹ Of these individuals, 3 passengers were killed and 62 passengers and crewmembers were injured. Eight individuals in highway vehicles were also injured. The damage is estimated to be more than $40 million. At the time of the accident, the temperature was 48 °F, the wind was from the south at 9 mph, and the visibility was 10 miles in light rain.

¹ Talgo Incorporated, which was the original manufacturer of the passenger railcars, has the service and maintenance contract.

The second accident occurred on February 4, 2018, about 2:27 a.m. eastern standard time, and involved southbound Amtrak train 91, operating on a track warrant. Train 91 was diverted from the main track through a hand-thrown switch into a siding and collided head-on with stationary CSX Transportation (CSX) local freight train F777 03.² The accident occurred on the CSX Columbia subdivision in Cayce, South Carolina. The engineer and conductor of the Amtrak train died in the collision, and at least 92 passengers and crewmembers on the Amtrak train were transported to medical facilities. The engineer of the stopped CSX train had exited the lead locomotive before the Amtrak train entered the siding, ran to safety, and was not injured. The conductor of the CSX lead locomotive saw the Amtrak train approaching in the siding and ran to the back of locomotive.

² Track warrant is a method of authorizing movements or protecting employees or on-track equipment in signaled or nonsignaled territory on controlled track within specified signals. These movements are under the jurisdiction of the train dispatcher.

The investigative hearing will discuss the following issue areas:

• Amtrak Operations on Host Railroads.

• Addressing Safety in Preparation for the Point Defiance Bypass.

• Managing Safety on Passenger Railroads.

• International Approach to Passenger Train Operations on Shared Use and Safety Management Principles From Other Industries.

Parties to hearing are the Federal Railroad Administration (FRA); Amtrak; CSX; Sound Transit; Brotherhood of Locomotive Engineers and Trainmen; Brotherhood of Railroad Signalmen; International Association of Sheet Metal, Air, Rail and Transportation Workers; Washington State Utilities and Transportation Commission; and the Washington State Department of Transportation.

Order of Proceedings

1. Opening Statement by the Chairman of the Board of Inquiry

2. Introduction of the Board of Inquiry and Technical Panel

3. Introduction of the Parties to the Hearing

4. Introduction of Exhibits by Hearing Officer

5. Overview of the incident and the investigation by Investigator-In-Charge

6. Calling of Witnesses by Hearing Officer

7. Closing Statement by the Chairman of the Board of Inquiry

The investigative hearing will be held in the NTSB Board Room and Conference Center, located at 429 L'Enfant Plaza SW, Washington, DC on Tuesday, July 10, 2018, and Wednesday, July 11, 2018, beginning at 8:30 a.m. Media planning to cover the investigative hearing are asked to contact the NTSB's chief of media relations, Chris O'Neil at 202-314-6133 or christopher.oneil@ntsb.gov.

The investigative hearing will be transmitted live via the NTSB's website at http://www.capitolconnection.net/capcon/ntsb/ntsb.htm. A link for webcast will be available shortly before the start of the hearing. An archival video of the hearing will be available via the website for 30 days after the hearing.

Individuals requiring reasonable accommodation and/or wheelchair access directions should contact Ms. Rochelle McCallister at (202) 314-6305 or by email at rochelle.mccallister@ntsb.gov.

NTSB Investigative Hearing Officer: Mr. Robert “Joe” Gordon—robert.gordon@ntsb.gov.

Candi R. Bing,
Federal Register Liaison Officer.

[FR Doc. 2018-12846 Filed 6-14-18; 8:45 am]

BILLING CODE 7533-01-P